DEPARTMENT OF COMMERCE

Environmental Technologies Trade Advisory Committee (ETTAC)

AGENCY: International Trade Administration, U.S. Department of Commerce.

ACTION: Notice of open meeting.

SUMMARY: The Environmental Technologies Trade Advisory Committee (ETTAC) will hold its quarterly meeting to discuss environmental technologies trade liberalization, industry competitiveness issues, and general Committee administrative items.

DATES: April 23, 2010.

ADDRESSES: U.S. Department of Commerce, 1401 and Constitution Avenue, NW., Washington, DC 20230, Room 4830.

FOR FURTHER INFORMATION CONTACT: Ellen Bohon, Office of Energy and Environmental Technologies Industries (OEEI), International Trade Administration, U.S. Department of Commerce at (202) 482-0359. This meeting is physically accessible to people with disabilities. Requests for sign language interpretation or other auxiliary aids should be directed to OEEI at (202) 482-5225.

SUPPLEMENTARY INFORMATION: The meeting will take place from 9 a.m. to 3:30 p.m. This meeting is open to the public and time will be permitted for public comment from 3-3:30 p.m. Written comments concerning ETTAC affairs are welcome anytime before or after the meeting. Minutes will be available within 30 days of this meeting.

The ETTAC is mandated by Public Law 103-392. It was created to advise the U.S. government on environmental trade policies and programs, and to help it to focus its resources on increasing the exports of the U.S. environmental industry. ETTAC operates as an advisory committee to the Secretary of Commerce and the Trade Promotion Coordinating Committee (TPCC). ETTAC was originally chartered in May of 1994. It was most recently re-chartered until September 2010.

Dated: April 7, 2010.
Edward A. O'Malley,
Director, Office of Energy and Environmental Industries.

[FR Doc. 2010-8240 Filed 4-9-10; 8:45 am]

BILLING CODE 3510-DR-P